DEPARTMENT OF THE INTERIOR

National Park Service

[N6791; NPS-WASO-NAGPRA-NPS0041560; PPWOCRADN0-PCU00RP14.R50000]

Notice of Intended Repatriation: The Children's Museum of Indianapolis, Indianapolis, IN

AGENCY: National Park Service, Interior.

ACTION: Notice.

SUMMARY: In accordance with the Native American Graves Protection and Repatriation Act (NAGPRA), The Children's Museum of Indianapolis intends to repatriate a certain cultural item that meets the definition of a sacred object/object of cultural patrimony and that has a cultural affiliation with the Indian Tribes or Native Hawaiian organizations in this notice.

DATES: Repatriation of the cultural item in this notice may occur on or after January 20, 2026.

ADDRESSES: Send additional, written requests for repatriation of the cultural item in this notice to Jennifer Noffze, The Children's Museum of Indianapolis, 3000 N Meridian Street, Indianapolis, IN 46208, email jenn@childrensmuseum.org.

SUPPLEMENTARY INFORMATION: This notice is published as part of the National Park Service's administrative responsibilities under NAGPRA. The determinations in this notice are the sole responsibility of The Children's Museum of Indianapolis, and additional information on the determinations in this notice, including the results of consultation, can be found in the summary or related records. The National Park Service is not responsible for the determinations in this notice.

Abstract of Information Available

A total of one cultural item has been requested for repatriation. The one sacred object/object of cultural patrimony is a mahi`ole (feather helmet). The mahi`ole was donated to The Children's Museum of Indianapolis by Butler University in 1964. The crescent-shaped mahi`ole is woven from natural fibers with traces of red feather ornamentation. The mahi`ole was used in ceremonies, rituals, formal events, and worn in battles to embody mana (cultural, spiritual, religious power) and mo`okū`auhau (genealogy) that support a ruling chief's ability to project his authority. Its physical presence holds symbolic, sacred, and ritual significance as expressed in its appearance and design at times made of feathers removed from the mahi`ole of a defeated chief taken in battle.

Determinations

The Children's Museum of Indianapolis has determined that:

• The one sacred object/object of cultural patrimony described in this notice is, according to the Native American traditional knowledge of an Indian Tribe or Native Hawaiian organization, a specific ceremonial object needed by a traditional Native American religious leader for present-day adherents to practice traditional Native American religion, and have ongoing historical, traditional, or cultural importance central to the Native American group, including any constituent sub-group (such as a band, clan, lineage, ceremonial society, or other subdivision). This mahi`ole is needed by a traditional religious leader for present-day adherents to renew the traditional Native Hawaiian religious ceremony of `ike pāpālua, which involves spiritual communication with their ancestors.

• There is a connection between the cultural item described in this notice and the Edith Kanaka`ole Foundation and Hui Iwi Kuamo`o.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 20, 2026. If competing requests for repatriation are received, The Children's Museum of Indianapolis must determine the most appropriate requestor prior to repatriation. Requests for joint repatriation of the cultural item are considered a single request and not competing requests. The Children's Museum of Indianapolis is responsible for sending a copy of this notice to the Indian Tribes and Native Hawaiian organizations identified in this notice and to any other consulting parties.

Authority: Native American Graves Protection and Repatriation Act, 25 U.S.C. 3004 and the implementing regulations, 43 CFR 10.9.

Dated: December 8, 2025.
Melanie O'Brien,
Manager, National NAGPRA Program.

[FR Doc. 2025-23369 Filed 12-18-25; 8:45 am]

BILLING CODE 4312-52-P